NATIONAL FOUNDATION ON THE ARTS AND THE HUMANITIES

National Endowment for the Arts; Leadership Initiatives Advisory Panel

Pursuant to Section 10(a)(2) of the Federal Advisory Committee Act (Public Law 92-463), as amended, notice is hereby given that a meeting of the Leadership Initiatives Advisory Panel, ArtsREACH section, to the National Council on the Arts will be held from May 31-June 2, 2000 in Room 730 at the Nancy Hanks Center, 1100 Pennsylvania Avenue NW, Washington, DC 20506. A portion of this meeting, from 11 a.m. to 12:30 p.m. on June 2nd, will be open to the public for policy discussion.

The remaining portions of this meeting—from 9 a.m. to 5:30 p.m. on May 31st, 9 a.m. to 6 p.m. on June 1st, and from 9 a.m. to 11 a.m. and 12:30 p.m. to 3 p.m. on June 2nd—are for the purpose of Panel review, discussion, evaluation, and recommendation on applications for financial assistance under the National Foundation on the Arts and the Humanities Act of 1965, as amended, including information given in confidence to the agency by grant applicants. In accordance with the determination of the Chairman of May 12, 1999, these sessions will be closed to the public pursuant to (c)(4)(6) and (9)(B) of section 552b of Title 5, United States Code.

Any person may observe meetings, or portions thereof, of advisory panels which are open to the public, and, if time allows, may be permitted to participate in the panel's discussions at the discretion of the panel chairman and with the approval of the full-time Federal employee in attendance.

If you need special accommodations due to a disability, please contact the Office of AccessAbility, National Endowment for the Arts, 1100 Pennsylvania Avenue NW, Washington, DC 20506, 202/682-5532, TDD 202/682-5496, at least seven (7) days prior to the meeting.

Further information with reference to this meeting can be obtained from Ms. Kathy Plowitz-Worden, Office of Guidelines & Panel Operations, National Endowment for the Arts, Washington, DC 20506, or call 202/682-5691.

Dated: April 24, 2000.
Kathy Plowitz-Worden,
Panel Coordinator, Panel Operations, National Endowment for the Arts.

[FR Doc. 00-11026 Filed 5-2-00; 8:45 am]

BILLING CODE 7537-01-M